COMMODITY FUTURES TRADING COMMISSION

Sunshine Act Meetings

TIME AND DATE: 10:00 a.m. EDT, Thursday, October 22, 2020.

PLACE: Virtual meeting.

STATUS: Open.

MATTERS TO BE CONSIDERED: The Commodity Futures Trading Commission (CFTC) will hold this meeting jointly with the Securities and Exchange Commission to consider the following matters:

• Joint Final Rule: Customer Margin Rules Relating to Security Futures—The Commissions will consider whether to adopt rule amendments to align the minimum margin required on security futures with other similar financial products.

• Request for comment: Portfolio Margining of Uncleared Swaps and Non-Cleared Security-Based Swaps—The Commissions also will consider whether to issue a request for comment on the portfolio margining of uncleared swaps and non-cleared security-based swaps. The request for comment would solicit comment on all aspects of the portfolio margining of uncleared swaps, non-cleared security-based swaps, and related positions, including on the merits, benefits, and risks of portfolio margining these types of positions, and on any regulatory, legal, and operational issues associated with portfolio margining them.

The agenda for this meeting will be available to the public and posted on the CFTC's website at https://www.cftc.gov. Instructions for public access to the live feed of the meeting will also be posted on the CFTC's website. In the event that the time, date, or place of this meeting changes, an announcement of the change, along with the new time, date, or place of the meeting, will be posted on the CFTC's website.

CONTACT PERSON FOR MORE INFORMATION: Christopher Kirkpatrick, Secretary of the Commodity Futures Trading Commission, 202-418-5964.

Authority: 5 U.S.C. 552b.

Dated: October 15, 2020.
Christopher Kirkpatrick,
Secretary of the Commission.

[FR Doc. 2020-23249 Filed 10-16-20; 11:15 am]

BILLING CODE 6351-01-P